DEPARTMENT OF THE INTERIOR

Bureau of Land Management

[18X LLUTY00000 L16100000.XZ0000]

Notice of Intent To Prepare Monument Management Plans for the Bears Ears National Monument Indian Creek and Shash Jáa Units and Associated Environmental Impact Statement, Utah

AGENCY: Bureau of Land Management, Interior.

ACTION: Notice of intent.

SUMMARY: In compliance with the National Environmental Policy Act of 1969, as amended (NEPA), the Federal Land Policy and Management Act of 1976, as amended (FLPMA), the National Forest Management Act of 1976, as amended (NFMA), and Presidential Proclamation 9558 as modified by Presidential Proclamation 9681, the Bureau of Land Management (BLM) Canyon Country District Office, Moab, Utah intends to prepare a Monument Management Plan (MMP) for the Bears Ears National Monument Indian Creek Unit, and intends to jointly prepare, with the Manti La-Sal National Forest (USFS), Price, Utah, a MMP for the Shash Jáa Unit. The BLM and USFS, which is a co-manager of the Shash Jáa Unit, will prepare a single Environmental Impact Statement (EIS) to satisfy the NEPA requirements for this planning process. By this Notice, the BLM announces the beginning of the scoping process to solicit public comments and identify issues. These MMPs may replace portions of the existing Monticello Field Office Record of Decision and Approved Resource Management Plan, as amended, and Manti- La Sal National Forest Plan.

DATES: This Notice initiates the public scoping process for separate MMPs for each monument unit with an associated combined EIS. The date(s) and location(s) of any scoping meetings will be announced at least 15 days in advance through local media, newspapers and the BLM website at: https://www.blm.gov/utah. In order to be included in the Draft EIS, all comments must be received prior to March 19, 2018 or 15 days after the last public meeting, whichever is later. We will provide additional opportunities for public participation upon publication of the Draft EIS.

ADDRESSES: You may submit comments on issues and planning criteria related to the planning process by any of the following methods:

• Website: Bears Ears National Monument: https://goo.gl/uLrEae

• Mail: 365 North Main, P.O. Box 7, Monticello, UT 84535

Documents pertinent to this proposal may be examined at the BLM Canyon Country District or Monticello Field Office.

FOR FURTHER INFORMATION CONTACT: Lance Porter, District Manager, telephone (435) 259-2100; address 365 North Main, P.O. Box 7, Monticello, UT 84535; email blm_ut_monticello_monuments@blm.gov. Contact Mr. Porter to add your name to our mailing list. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: This document provides notice that the BLM Canyon Country District Office, Moab, Utah, intends to prepare an MMP for the Bears Ears National Monument Indian Creek Unit, and jointly prepare an MMP with the Manti La-Sal National Forest, Price, Utah, for the Shash Jáa Unit, as well as an associated EIS. The BLM announces the beginning of the scoping process, and seeks public input on issues and planning criteria. The planning area is located in San Juan County, Utah and encompasses approximately 169,289 acres of BLM-managed lands and 32,587 acres of National Forest System Lands.

On December 4, 2017, President Donald Trump signed Proclamation 9681 modifying the Bears Ears National Monument designated by Proclamation 9558 to exclude from its designation and reservation approximately 1,150,860 acres of land, which lands are not covered by this Notice of Intent and will continue to be managed under the governing Monticello Record of Decision and Approved Resource Management Plan and Manti La-Sal National Forest Plan until they are otherwise revised or amended. The revised BENM boundary includes two units known as the Shash Jáa and Indian Creek Units that are reserved for the care and management of the objects of historic and scientific interest within their boundaries. Proclamation 9558, as modified by Proclamation 9681, requires the BLM and the USFS to jointly develop a MMP. Each agency will continue to manage their lands within the monument pursuant to their respective applicable legal authorities.

To ensure that management decisions reflect tribal expertise and traditional and historical knowledge, Proclamation 9558, signed on December 28, 2016, established a Bears Ears Commission to provide guidance and recommendations on the development and implementation of a management plan for the Bears Ears National Monument. Proclamation 9681 modifies Proclamation 9558 and clarifies that the Bears Ears Commission shall be known as the Shash Jáa Commission, and shall apply only to the Shash Jáa Unit. The Commission consists of one elected officer each from the Hopi Nation, Navajo Nation, Ute Mountain Ute Tribe, Ute Indian Tribe of the Uintah Ouray, and Zuni Tribe, designated by the officers' respective tribes, and the elected officer of the San Juan County Commission representing District 3 acting in that officer's official capacity.

The purpose of the public scoping process is to determine relevant issues that will inform the scope of the environmental analysis, including alternatives, and guide the planning process. Preliminary issues for the planning area have been identified by BLM and USFS personnel; Federal, State, and local agencies; and other stakeholders. These preliminary issues include cultural and historic resources, including protection of Indian sacred sites and traditional cultural properties; paleontological resources; travel management; livestock grazing; wildlife; vegetation and fire management; outdoor recreation; and other resource management.

Preliminary planning criteria include:

(1) The public planning process for the MMPs will be guided by Proclamation 9558 as modified by Proclamation 9681 in addition to FLPMA, NFMA, and NEPA. (2) The BLM and USFS will use current scientific information, research, technologies, and results of inventory, monitoring, and coordination to determine appropriate management. (3) The BLM and USFS will strive to coordinate management decisions with other adjoining planning jurisdictions, both Federal and non-Federal. (4) Decisions made in the planning process will only apply to BLM-managed lands, National Forest System Lands, and, where appropriate, split-estate lands where the subsurface mineral estate is managed by the BLM. (6) Existing Wilderness Study Areas (WSAs) will continue to be managed to prevent impairment and ensure continued suitability for designation as wilderness. Should Congress release all or part of a WSA from wilderness study, resource management will be determined by preparing an amendment to the MMP. (7) The BLM will consider changes to the off-highway vehicle (OHV) area designations approved through the Monticello Field Office Record of Decision and Approved Resource Management Plan. (8) As required by the Proclamations, the BLM and USFS will meaningfully engage with the Shash Jáa Commission and will carefully and fully consider integrating the traditional and historical knowledge and special expertise of the Commission for the Shash Jáa Unit. The BLM and USFS will also work with the Commission to identify parameters for continued meaningful engagement that will be set forth in the MMP.

You may submit comments on issues and planning criteria in writing to the BLM at any public scoping meeting, or you may submit them to the BLM using one of the methods listed in the ADDRESSES section above. To be most helpful, and to ensure inclusion in the Draft EIS, you should submit comments prior to the close of the 60-day scoping period or 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM and USFS will evaluate identified issues to be addressed in the plans, and will place them into one of three categories:

1. Issues to be resolved in the plans;

2. Issues to be resolved through policy or administrative action; or

3. Issues beyond the scope of these plans.

The BLM and USFS will provide an explanation in the Draft MMPs/Draft EIS as to why an issue was placed in category two or three. The public is also encouraged to help identify any management questions and concerns that should be addressed in the plans.

The BLM and USFS will work collaboratively with interested parties to identify the management decisions that are best suited to local, regional, and national needs and concerns.

The BLM and USFS will utilize and coordinate the NEPA scoping process to help fulfill the public involvement process under the National Historic Preservation Act (54 U.S.C. 306108) as provided in 36 CFR 800.2(d)(3). The information about historic and cultural resources within the area potentially affected by the proposed action will assist the BLM and USFS in identifying and evaluating impacts to such resources.

The BLM and USFS will consult with Indian tribes on a government-to-government basis in accordance with Executive Order 13175 and other policies. Tribal concerns, including impacts on Indian trust assets and potential impacts to cultural resources, will be given full consideration consistent with these authorities and policies. Federal, State, and local agencies, along with tribes and other stakeholders that may be interested in or affected by the proposed action that the BLM and USFS are evaluating, are invited to participate in the scoping process and, if eligible, may request or be requested by the BLM and USFS to participate in the development of the environmental analysis as a cooperating agency.

The BLM and USFS will use an interdisciplinary approach to develop the plans in order to consider the variety of resource issues and concerns identified. Specialists with expertise in the following disciplines will be involved in the planning process: Rangeland management, minerals and geology, forestry, outdoor recreation, archaeology, paleontology, wildlife and fisheries, lands and realty, hydrology, soils, sociology, and economics.

Authority: 40 CFR 1501.7, 43 CFR 1610.2.

Edwin L. Roberson,
State Director.

[FR Doc. 2018-00520 Filed 1-12-18; 8:45 am]

BILLING CODE 4310-DQ-P